DEPARTMENT OF ENERGY

Federal Energy Regulatory Commission

[Project No. 2305-036]

Sabine River Authority of Texas and Sabine River Authority, State of Louisiana; Notice of Application Tendered for Filing With the Commission and Establishing Procedural Schedule for Licensing and Deadline for Submission of Final Amendments

Take notice that the following hydroelectric application has been filed with the Commission and is available for public inspection.

a. Type of Application: New Major License.

b. Project No.: 2305-036.

c. Date Filed: September 30, 2011.

d. Applicant: Sabine River Authority of Texas and Sabine River Authority, State of Louisiana (Sabine River Authorities).

e. Name of Project: Toledo Bend Hydroelectric Project.

f. Location: On the Sabine River, affecting lands and waters in Panola, Shelby, Sabine, and Newton Counties, Texas, and De Soto, Sabine, and Vernon Parishes, Louisiana. The project occupies about 3,600 acres of United States lands under the jurisdiction of the Forest Service.

g. Filed Pursuant to: Federal Power Act, 16 U.S.C. 791(a)-825(r).

h. Applicant Contact:

Mr. Melvin T. Swoboda, Licensing Manager, Toledo Bend Project Joint Operation, P.O. Box 579, Orange, Texas 77631-0579, 409-746-2192; mswoboda@sratx.org.

Mr. Jerry L. Clark, General Manager, Sabine River Authority of Texas, P.O. Box 579, Orange, Texas 77631-0579. 409-746-2192; jclark@sratx.org

Mr. James Pratt, Executive Director, Sabine River Authority, State of Louisiana, 15091 Texas Highway, Many, Louisiana 71449-5718, 318-256-4112; jimpratt@dotd.louisiana.gov.

Mr. Charles R. Sensiba, Van Ness Feldman, P.C., 1050 Thomas Jefferson Street, NW., Washington, DC 20007, 202-298-1800.

i. FERC Contact: Alan Mitchnick at (202) 502-6074 or e-mail at alan.mitchnick@ferc.gov.

j. This application is not ready for environmental analysis at this time.

k. The Project Description: The existing Toledo Bend Project (figure 2) consists of: (1) A rolled, earth-fill embankment, approximately 11,250 feet long (including saddle dikes) with a top width of 25 feet and maximum height of approximately 112 feet; (2) an approximately 185,000-surface acre, 85-mile-long reservoir, with an active storage capacity of 4,477,000 acre-feet at full pool (172 feet) and 1,200 miles of shoreline; (3) a 838-foot-long spillway located along the north dam abutment in Louisiana, comprised of a concrete, gravity-type, gated weir with a concrete chute and stilling basin and a discharge channel on the left abutment with eleven 40-foot by 28-foot tainter gates; (4) a 80-foot-wide, 55-foot-high powerhouse located in the right abutment, containing two vertical Kaplan turbines with an authorized installed capacity of 81 megawatts (MW); and (5) a 220-foot-long, concrete tailrace segment leading into a 2-mile-long, excavated channel that eventually merges with the Sabine River; (6) a 138-kilovolt, primary transmission line leading from the powerhouse to the project switchyard, located immediately adjacent to the tailrace; and (7) a station transformer, located to the immediate south of and adjacent to the powerhouse. The Sabine River Authorities propose to construct a 1.3-MW minimum flow turbine-generator at the project spillway.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | 11/29/2011
Filing of recommendations, preliminary terms and conditions, and fishway prescriptions | 1/28/2012
Commission issues Draft EIS | 7/26/2012
Comments on Draft EIS due | 9/24/2012
Modified Terms and Conditions due | 11/23/2012
Commission Issues Final EIS | 2/21/2013

o. Final amendments to the application must be filed with the Commission no later than 30 days from the issuance date of the notice of ready for environmental analysis.

Dated: October 7, 2011.
Kimberly D. Bose,
Secretary.

[FR Doc. 2011-26600 Filed 10-13-11; 8:45 am]

BILLING CODE 6717-01-P